SMALL BUSINESS ADMINISTRATION

Region 3—Washington Metropolitan Area District Office Advisory Council; Public Meeting

The U.S. Small Business Administration's Washington Metropolitan Area District Office will host a public meeting on Friday, September 24, 2004, from 9 a.m. until 11:30 a.m. at the Washington Metropolitan Area District Office located at 1110 Vermont Avenue, NW., 9th Floor, Washington, DC 20005. Seating is limited and is available on a first come, first served basis. The focus of the meeting includes a review/update of the status of the district's FY 2004 goals, update on new initiatives and other matters that may be presented by members and staff of the U.S. Small Business Administration's Washington Metropolitan Area District Office, or others present.

Anyone wishing to make an oral presentation to the Board must contact Joseph P. Loddo, District Director, and Designated Federal Official for the SBA's Washington Metropolitan Area District Advisory Council, in writing by letter or fax no later than August 26, 2004, in order to be put on the agenda. Requests for oral comments must be in writing to: Joseph P. Loddo, District Director, U.S. Small Business Administration, Washington Metropolitan Area District Office, 1110 Vermont Ave., NW., 9th Fl, Washington, DC 20005. Telephone (202) 606-4000, ext. 276 or FAX (202) 481-2740.

Matthew K. Becker,
Committee Management Officer.

[FR Doc. 04-19200 Filed 8-20-04; 8:45 am]

BILLING CODE 8025-01-P